DEPARTMENT OF STATE

Bureau of Educational and Cultural Affairs (ECA/EC/ECD)

[Public Notice 4111]

60-Day Notice of Proposed Information Collection: Form DS-3097, Annual Report by Sponsors of Exchange Visitor Programs; OMB Control Number 1405-xxxx

AGENCY: Department of State.

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: New collection.

Originating Office: Bureau of Educational and Cultural Affairs, Office of Exchange Coordination and Designation (ECA/EC/ECD).

Title of Information Collection: Annual Report by Sponsors of Exchange Visitor Programs.

Frequency: Annually.

Form Number: DS-3097.

Respondents: The respondents are United States Government agencies and public and private organizations designated by the Department to administer the Exchange Visitor Program.

Estimated Number of Respondents: 1450 program sponsors.

Average Hours Per Response: One hour per response.

Total Estimated Burden: 1450 hours.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Stanley S. Colvin, Acting Director, Office of Exchange Coordination and Designation, U.S. Department of State, 301 Fourth Street, SW., Room 852, Washington, DC 20547, who may be reached on 202-401-9810 or by fax at 202-401-9809.

Dated: August 15, 2002.
Patricia S. Harrison,
Assistant Secretary, Bureau of Educational and Cultural Affairs, Department of State.

[FR Doc. 02-21927 Filed 8-27-02; 8:45 am]

BILLING CODE 4710-05-P